COMMISSION ON CIVIL RIGHTS

Notice of Public Meeting of the Kentucky Advisory Committee; Correction

AGENCY: Commission on Civil Rights.

ACTION: Notice; correction to meeting time.

SUMMARY: The Commission on Civil Rights published a notice in the Federal Register of Thursday, May 6, 2021, concerning a meeting of the Kentucky Advisory Committee. The document contained an incorrect meeting time.

FOR FURTHER INFORMATION CONTACT: Barbara Delaviez at bdelaviez@usccr.gov or (202) 539-8246.

CORRECTION: In the Federal Register of Thursday, May 6, 2021, in FR Doc. 2021-09532, on pages 24378-24379, correct the time to read: Wednesday, May 19, 2021 at 12:30 p.m. EST.

Dated: May 13, 2021.
David Mussatt,
Supervisory Chief, Regional Programs Unit.

[FR Doc. 2021-10472 Filed 5-18-21; 8:45 am]

BILLING CODE P